DEPARTMENT OF LABOR

Employment and Training Administration

Amended Certification Regarding Eligibility To Apply for Worker Adjustment Assistance

TA-W-82,658

SUNTRUST BANK, SUNTRUST BANKS, INC. ENTERPRISE INFORMATION SERVICES (EIS) INCLUDING ON-SITE LEASED WORKERS FROM MDI GROUP, TEKSYSTEMS, INSIGHT GLOBAL, VEREDUS, ESPERIS, PYRAMID CONSULTING, APEX SYSTEMS, BEACON TECHNOLOGIES, RANDSTAD, MODIS AND STRATEGIC STAFFING TWO LOCATIONS IN RICHMOND, VIRGINIA

TA-W-82,658A

SUNTRUST BANK, SUNTRUST BANKS, INC. ENTERPRISE INFORMATION SERVICES (EIS) DURHAM, NORTH CAROLINA

TA-W-82,658B

SUNTRUST BANK, SUNTRUST BANKS, INC. ENTERPRISE INFORMATION SERVICES (EIS) THREE LOCATIONS IN ATLANTA, GEORGIA

TA-W-82,658C

SUNTRUST BANK, SUNTRUST BANKS, INC. ENTERPRISE INFORMATION SERVICES (EIS) ORLANDO, FLORIDA

TA-W-82,658D

SUNTRUST BANK, SUNTRUST BANKS, INC. ENTERPRISE INFORMATION SERVICES (EIS) LAUREL, MARYLAND

In accordance with Section 223 of the Trade Act of 1974, as amended (“Act”), 19 U.S.C. 2273, the Department of Labor issued a Certification of Eligibility to Apply for Worker Adjustment Assistance on May 8, 2013, applicable to workers of SunTrust Bank, SunTrust Banks, Inc., Enterprise Information Services (EIS), Richmond, Virginia. The Department's notice of determination was published in the Federal Register on May 30, 2013 (Vol. 78 FR 108).

At the request of a State Workforce Official, the Department reviewed the certification for workers of the subject firm. The workers firm supplies financial services.

The Department reports that worker separations at other SunTrust Bank locations are also attributable to the acquisition of services that was the basis of the certification of the Richmond, Virginia location. The firm has reported worker separations at the following addresses: 1030 Wilmer Avenue and 1001 Semmes Avenue, Richmond, Virginia (TA-W-82,658); 2323 Operations Drive, Durham, North Carolina (TA-W-82,658A); 303 Peachtree Center Avenue, 285 Peachtree Center Avenue, and 211 Perimeter Center Parkway, Atlanta, Georgia (TA-W-82,658B); 7455 Chancellor Drive, Orlando, Florida (TA-W-82,658C); and 14401 Sweitzer Lane, Laurel, Maryland (TA-W-82,658D).

The firm also reports two teleworkers whose separations are attributable to the shift of services to a foreign country. One teleworker living in Orlando, Florida is included in TA-W-82,658C. The other teleworker living in Cincinnati, Ohio is included in TA-W-82,658B.

The amended notice applicable to TA-W-82,658 is hereby issued as follows:

All workers of SunTrust Bank, SunTrust Banks, Inc., Enterprise Information Services (EIS), including on-site leased workers from MDI Group, TEKSystems, Insight Global, Veredus, Experis, Pyramid Consulting, Apex Systems, Beacon Technologies, Randstad, and Modis and Strategic Staffing, Two locations in Richmond, Virginia (TA-W-82,658); SunTrust Bank, SunTrust Banks, Inc., Enterprise Information Services (EIS), Durham, North Carolina (TA-W-82,658A); SunTrust Bank, SunTrust Banks, Inc., Enterprise Information Services (EIS), Three locations in Atlanta, Georgia (TA-W-82,658B); SunTrust Bank, SunTrust Banks, Inc., Enterprise Information Services (EIS), Orlando, Florida (TA-W-82,658C); and SunTrust Bank, SunTrust Banks, Inc., Enterprise Information Services (EIS), Laurel, Maryland (TA-W-82,658D), who became totally or partially separated from employment on or after April 12, 2013 through May 8, 2015, and all workers in the group threatened with total or partial separation from employment on the date of certification through two years from the date of certification, are eligible to apply for adjustment assistance under Chapter 2 of Title II of the Trade Act of 1974, as amended.

Signed in Washington, DC, this 20th day of September, 2013.
Michael W. Jaffe,
Certifying Officer, Office of Trade Adjustment Assistance.

[FR Doc. 2013-24972 Filed 10-23-13; 8:45 am]

BILLING CODE 4510-FN-P